DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held September 28, 2011 from 8:30 a.m. to 1:30 p.m.

ADDRESSES: The meeting will be held at RTCA, Inc., 1150 18th Street, NW., Suite 910, Washington, DC 20036.

FOR FURTHER INFORMATION CONTACT: RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Program Management Committee meeting. The agenda will include:

• Opening Plenary (Welcome And Introductions).

• Review/Approve Summaries.

• June 22, 2011, RTCA Paper No. 159-11/PMC-916.

• Publication Consideration/Approval.

• Final Draft, New Document, Final Draft, Revised DO-272B, User Requirements for Aerodrome Mapping Information, RTCA Paper No. 152-11/PMC-908, prepared by SC-217.

• Final Draft, Revised DO-291A, Minimum Interchange Standards for Terrain, Obstacle, and Aerodrome Mapping Data, RTCA Paper No. 153-11/PMC-909, prepared by SC-217.

• Final Draft, New Document, Aircraft Secondary Barriers and Alternative Flight Deck Security Procedures, RTCA Paper No. 154-11/PMC-910, prepared by SC-221.

• Final Draft, Revised DO-178B, Software Considerations in Airborne Systems and Equipment Certification, RTCA Paper No. 155-11/PMC-911, prepared by SC-205.

• Final Draft, Revised DO-278, Software Integrity Assurance Considerations for Communication, Navigation, Surveillance and Air Traffic Management (CNS/ATM) Systems, RTCA Paper No. 156-11/PMC-912, prepared by SC-205.

• Final Draft, New Document, Software Tool Qualification Considerations, RTCA Paper No. 157-11/PMC-913, prepared by SC-205.

• Final Draft, New Document, Formal Methods Supplement to DO-178 and DO-278, RTCA Paper No. 158-11/PMC-914, prepared by SC-205.

• Integration and Coordination Committee (ICC)—Report.

• MASPS, SPR Guidance—Update.

• MOPS Drafting Guide—Recommendations for Review/Approval.

• Action Item Review.

• SC-222—Inmarsat AMS(R)S—Discussion—Review/Approve Revised Terms of Reference.

• PMC Ad Hoc—Special Committee Guidance Document—Discussion—

• SC-203—Unmanned Aircraft Systems—Discussion—Overview of MASPS Process.

• Discussion.

• Aircraft Audio Systems and Equipment—Discussion—Request for New Special Committee to Revise DO-214—Audio Systems Characteristics and Minimum Operational Performance Standards for Aircraft Audio Systems and Equipment.

• SC-206—Aeronautical Information Services (AIS) Data Link—Co-Chairman Review/Approval.

• NAC Update.

• FAA Actions Taken on Previously Published Documents.

• Special Committees—Chairmen's Reports.

• Other Business.

• Schedule for Committee Deliverables and Next Meeting Date.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 8, 2011.
Robert L. Bostiga,
Manager, Agency Committee Management Office, Business Operations Group, AJP-92, NextGen & Operations Planning.

[FR Doc. 2011-23696 Filed 9-14-11; 8:45 am]

BILLING CODE 4910-13-P